DEPARTMENT OF TRANSPORTATION

Office of the Secretary

[OST—2008 -0259, Pricing and Multilateral Affairs Division]

Agency Information Collection Request; Activity Under OMB Review; (14 CFR Part 221-Exemption from Passenger Tariff-filing Requirements in Certain Instances and Mandatory Electronic Filing of Residual Passenger Tariffs)

AGENCY: Office of the Secretary (OST), DOT.

ACTION: Notice and request for comments; Extension of a currently approved information collection.

SUMMARY: In compliance with the Paperwork Reduction Act of 1995, Public Law 104-13, (44 U.S.C. 3501 et seq.) this notice announces that the Information Collection Request, abstracted below, is being forwarded to the Office of Management and Budget for notice and request for comments of currently approved (Exemption from Passenger Tariff-Filing Requirements in Certain Instances, and Mandatory Electronic Filing of Residual Passenger Tariffs). A Federal Register Notice with a 60-day comment period was published on September 9, 2008, Volume 73, Number 175, Pages 52445-52447. The agency did not receive any comments to its previous notice.

DATES: Written comments should be submitted by December 17, 2008.

FOR FURTHER INFORMATION CONTACT: Bernice Gray, 202-366-2418 or John Kiser, 202-366-2435, Pricing and Multilateral Affairs Division, Office of the Secretary, Department of Transportation, Washington, DC. Office hours are from 8 a.m. to 5 p.m., Monday through Friday, except Federal holidays.

Comments: Comments should be sent to OMB: Attention DOT/OST Desk Officer, Office of Information and Regulatory Affairs, Office of Management and Budget, Docket Library, Room 10102, 725 17th Street, NW., Washington, DC 20503, or oira_submission@omb.eop.gov (e-mail).

SUPPLEMENTARY INFORMATION: OMB Control No.: 2106-0009.

Title: Exemption from Passenger Tariff-filing Requirements in Certain Instances and Mandatory Electronic Filing of Residual Passenger Tariffs.

Respondents: The vast majority of the air carriers filing international tariffs are large operators with revenues in excess of several million dollars each year. Small air carriers operating aircraft with 60 seats or less and 18,000 pounds payload or less that offer on-demand air-taxi service are not required to file such tariffs.

Number of Respondents: 148.

Number of Responses: 229,200.

Total Annual Burden: 45,840.

Abstract: Chapter 41504 of Title 49 of the United States Code requires that every air carrier and foreign air carrier file with the Department of Transportation (DOT), publish and keep open (i.e., post) for public inspection tariffs showing all “foreign” or “international” fares, and related charges for air transportation between points served by it, and any other air carrier or foreign air carrier when through services, fares and related charges have been established; and showing, to the extent required by DOT regulations, all classifications, rules, regulations, practices, and services in connection with such air transportation. Once tariffs are filed and approved by DOT, they become a legally binding contract of carriage between carriers and users of foreign air transportation.

Part 221 of the Department's Economic Regulations (14 CFR part 221) set forth specific technical and substantive requirements governing the filing of tariff material with the DOT Office of International Aviation's Pricing and Multilateral Affairs Division. A carrier initiates an electronic tariff filing whenever it wants to amend an existing tariff for commercial and competitive reasons or when it desires to file a new one. Electronic tariffs filed pursuant to part 221 are used by carriers, computer reservation systems, travel agents, DOT, other government agencies and the general public to determine the prices, rules and related charges for international passenger air transportation. In addition, DOT needs U.S. and foreign air carrier passenger tariff information to monitor international air commerce, carry out carrier route selections and conduct international negotiations.

Part 293 exempts carriers from their statutory and regulatory duty to file international tariffs in many specific markets.

Comments are invited on: (a) Whether the proposed collection of information is necessary for the proper performance of the functions of the Department, including whether the information will have practical utility; (b) the accuracy of the Departments estimate of the burden of the proposed information collection; (c) ways to enhance the quality, utility and clarity of the information collection; and (d) ways to minimize the burden of the collection of information on respondents, by the use of electronic means, including the use of automated collection techniques or other forms of information technology.

All responses to this notice will be summarized and included in the request for OMB approval. All comments will also become a matter of public record.

Issued in Washington, DC, on November 11, 2008.
Tracey M. Jackson,
Office of the Chief Information Officer.

[FR Doc. E8-27207 Filed 11-14-08; 8:45 am]

BILLING CODE 4910-62-P